DEPARTMENT OF DEFENSE

Department of the Army; Corps of Engineers

Availability of Surplus Land and Buildings in Accordance With Public Law 103-421 Located at Fort Ritchie Military Reservation, Cascade, MD

AGENCY: U.S. Army Corps of Engineers, DOD.

ACTION: Public notice of availability.

SUMMARY: This notice identifies the surplus real property located at the Fort Ritchie Military Reservation, Cascade, MD. The property is located in Washington County, Northeast of Hagerstown in the community of Cascade, MD at the intersection of routes 550 and 491.

ADDRESSES: Notices of interest should be forwarded to Mr. Richard Rook, Executive Director, PenMar Development Corporation, P.O. Box 699, Cascade, MD 21719, telephone (301) 241-4050, fax (301) 241-4141. A copy of notices of interest should be sent to Mr. Gerry Bresee at the address below.

FOR FURTHER INFORMATION CONTACT: For information regarding the particular property identified in this notice (i.e., acreage, floor plans, existing sanitary facilities, exact location), contact Mr. Gerry Bresee, Real Estate Division, Army Corps of Engineers, P.O. Box 1715, Baltimore, MD 21203 (telephone 410-962-5173, fax 410-962-0866).

SUPPLEMENTARY INFORMATION: Surplus is available under the provisions of the Federal Property and Administrative Services Act of 1949 and the Base Closure Community Redevelopment and Homeless Assistance Act of 1994. Notice is posted to comply with property screening requirements mandated in the February 4, 2003 decision by the U.S. Court of Appeals (Role Models America, Inc. v. Thomas E. White, Secretary of the Army et al.). This notice supercedes the Federal Register notice of March 25, 2003 (68 FR 14412). The property available for surplus is not being screened for potential homeless use as determined by the U.S. Department of Housing and Urban Development. Parties wishing to participate in a federal Public Benefit Conveyance program are invited to visit the web sites of the General Services Administration listed below for information on the types of land uses which qualify for the program and how to apply.

1. http://propertydisposal.gsa.gov/ResourceCenter/Laws_Regs_All/main1.htm.

2. http://propertydisposal.gsa.gov/Property/library/law/law_main1.asp#sales.

Listed below are five Public Benefit Conveyance land uses which local communities often ask about. Parties are invited to contact the following offices to find out more about each agency's Public Benefit Conveyance Program and to discuss with the Agency the Party's potential for qualifying for a conveyance of property:

For Park and Recreation Uses—Mr. Bill Huie, Recreation Grants Division Southeast Regional Office, National Park Service, 100 Alabama Street, SW., Atlanta, GA 30303, Telephone: (404) 562-3175.

For Educational Uses—Mr. Peter Wieczorek, Director, Eastern Zone, Federal Real Property Assistance Program, U.S. Department of Education, J.W. McCormack PO & Courthouse (Room 536), Boston, MA 02109, Telephone (617) 223-9321.

For Health Conveyances—Chief, Real Property Branch, Division of Health Facilities Planning (Room 5B17), Parklawn Building, 5600 Fishers Lane, Rockville, MD 20857, Telephone: (301) 443-2265.

For Prison Uses—Chief, Site Selection and Environmental Review, Bureau of Prisons, 320 First Street, NW., Washington, DC 20534, Telephone: 202-514-6470.

For Self-Help Housing—Ms. Janet Golrick, U.S. Department of Housing and Urban Development, Office of Multifamily Housing Programs, 451 7th Street, SW. (Room 6112), Washington, DC 20410, Telephone (202) 708-2495.

The surplus real property totals approximately 591 acres and contains 252 buildings totaling 1,384,000 square feet of space. Current range of uses include: Administrative; residential; open recreation; and special purpose space. Future uses may include generally the same types of uses.

Luz D. Ortiz,
Army Federal Register Liaison Officer.

[FR Doc. 03-25182 Filed 10-2-03; 8:45 am]

BILLING CODE 3710-92-M